OFFICE OF MANAGEMENT AND BUDGET

Methods and Leading Practices for Advancing Public Participation and Community Engagement With the Federal Government

AGENCY: Office of Management and Budget (OMB), Executive Office of the President.

ACTION: Request for Information (RFI).

SUMMARY: The Federal Government is committed to making it easier for the American people to engage with their Government, and to harnessing their knowledge, needs, and lived experiences to improve how Government works for them and with them. Federal laws and Executive directives require agencies to frequently consult with the public to inform regulations, policies, program and service design, and other actions. However, these consultation efforts may be perceived as inaccessible, convoluted, or disconnected from the interests and priorities of impacted stakeholders. According to the 2023 Partnership for Public Service (PPS) survey on trust in government, only about 1 in 5 Americans believe that the Federal Government “listens to the public” or “is transparent.”

The Office of Management and Budget (OMB), in partnership with Federal agencies and the public, is working to develop a government-wide framework, common guidelines, and leading practices for public participation and community engagement (PPCE or “participation and engagement”). This framework will enable agencies to more frequently, effectively, broadly, and meaningfully involve the public, including underserved communities, in government decision-making.

Through this Request for Information (RFI), OMB seeks input on the experiences of individuals and organizations, including from underserved communities, with informing Federal Government decision-making and participating in engagement activities with government agencies; examples of leading practices in this space; and other recommendations on available methods, approaches, and tools that could assist in the effort to develop and implement a Federal framework for participation and engagement. OMB welcomes input from a wide and diverse array of stakeholders in the public, private, advocacy, not-for-profit, and philanthropic sectors, including State, local, Tribal, and territorial governments. OMB will review and consider the usability and applicability of responses to this RFI as OMB develops a Federal framework for PPCE and supports agencies in their work to ensure that their policies and actions are responsive to all Americans.

DATES: Responses to this RFI should be received by May 17, 2024. To the extent practicable, OMB will also consider comments received after that date.

ADDRESSES: In an effort to improve accessibility, OMB is offering multiple options to provide feedback.

Responses can be submitted via the Federal eRulemaking Portal at https://www.regulations.gov/. Follow the instructions for submitting comments.

Alternatively, responses may be submitted through a simple form at https://www.performance.gov/participation/. Instructions for submitting responses through that form can be found on the site, as well as options to register for events that OMB will host to gather live input and feedback from the public. Participation in these events is not required in order to respond to this RFI.

Instructions for Submission: Written comments should not exceed 10 pages. Attachments or linked resources or documents are not included in the 10-page limit. Please use concise, plain language in narrative or bullet format. OMB has provided some key questions on which public insights would be most valuable (see Supplementary Information, Part III). You may respond to some or all of these questions, and additional feedback beyond these questions is also welcome. Any links you provide to online materials or presentations must be publicly accessible. Each response should include:

• The name of the individual(s) and/or organization(s) responding;

• RFI question(s), topic(s), and/or policy suggestions that your submission and materials address;

• A brief description of the responding individual(s) and/or organization(s)'s mission and/or areas of experience or expertise; and

• A contact for questions or other follow-up on your response.

Please feel free to share this RFI with colleagues or others for feedback, including those who may be familiar with effective outreach to underserved communities.

Privacy Act Statement: Response to this RFI is voluntary. The information will be used to inform sound decision-making regarding the PPCE framework and other related matters. Please note that all submissions received in response to this notice may be posted on https://www.regulations.gov/ or otherwise released in their entirety, including any personal and business confidential information provided. Do not include in your submissions any copyrighted material; information of a confidential nature, such as personal or proprietary information; or any information you would not like to be made publicly available. The OMB System of Records Notice, OMB Public Input System of Records, OMB/INPUT/01, 88 FR 20913 (https://www.federalregister.gov/documents/2023/04/07/2023-07452/privacy-act-of-1974-system-of-records), includes a list of routine uses associated with the collection of this information.

By responding to the RFI, each participant (individual, team, or legal entity) warrants that they are the sole author or owner of, or has the right to use, any copyrightable works that the submission comprises, that the works are wholly original (or is an improved version of an existing work that the participant has sufficient rights to use and improve), and that the submission does not infringe any copyright or any other rights of any third party of which participant is aware.

Individuals and organizations who respond to this RFI may be contacted for additional clarification, related discussions, events, surveys, crowdsource campaigns, or competitions.

FOR FURTHER INFORMATION CONTACT: Please email publicparticipation@omb.eop.gov with “PPCE RFI” in the subject line, or contact Cherie Klein at 202-881-6220.

SUPPLEMENTARY INFORMATION:

I. Background

In a government of the people, by the people, and for the people, inclusive, effective, and meaningful participation and engagement is one of the foundational principles of government decision-making. A wide range of Federal statutes provide for participation and engagement across routine Federal agency functions—from rulemaking to strategic planning and evaluation. These include the Administrative Procedure Act of 1946 (Pub. L. 79-404), Paperwork Reduction Act of 1995 (Pub. L. 104-13), Government Performance and Results Act Modernization Act of 2010 (Pub. L. 111-352), and Foundations for Evidence-based Policymaking Act of 2018 (Pub. L. 115-435).

Consistent with these laws, a range of Executive actions and policy directives also encourage and, in many cases, require agencies to develop better mechanisms to receive direct feedback from and engage with the people, organizations, and communities served by the Federal Government. These include:

• Executive Order (E.O.) 13175 on Consultation and Coordination With Indian Tribal Governments;

• 2011 Open Government Declaration, endorsed by the U.S., as a founding member of the Open Government Partnership (OGP) and current member of the OGP Steering Committee;

• E.O. 13707 on Using Behavioral Science Insights To Better Serve the American People;

• E.O. 14058 on Transforming Federal Customer Experience and Service Delivery to Rebuild Trust in Government;

• E.O. 14091 on Further Advancing Racial Equity and Support for Underserved Communities Through the Federal Government;

• E.O. 14094 on Modernizing Regulatory Review;

• E.O. 14096 on Revitalizing Our Nation's Commitment to Environmental Justice for All;

• Fifth U.S. Open Government National Action Plan;

• Biden-Harris Administration President's Management Agenda;

• OMB Circular No. A-11 (Preparation, Submission, and Execution of the Budget);

• OMB Memorandum on Broadening Public Participation and Community Engagement in the Regulatory Process;

• OMB Guidance Implementing Section 2(e) of E.O. 14094;

• OMB Memorandum M-24-08 (Strengthening Digital Accessibility and the Management of Section 508 of the Rehabilitation Act);

• OMB Memorandum M-23-22 (Delivering a Digital-First Public Experience);

• OMB Memorandum M-22-12 (Advancing Effective Stewardship of Taxpayer Resources and Outcomes in the Implementation of the Infrastructure Investment and Jobs Act);

• OMB Memorandum M-21-28 (Interim Implementation Guidance for the Justice40 Initiative); and

• OMB Memorandum M-21-20 (Promoting Public Trust in the Federal Government through Effective Implementation of the American Rescue Plan Act and Stewardship of the Taxpayer Resources).

A growing body of evidence in the public and private sectors has documented a strong relationship between effective PPCE and improved public perception of and trust in government. In the 2022 PPS survey on trust in government, about one-third of the respondents said that being more responsive to the public and being more transparent were among their key priorities for government improvement. Meanwhile, a survey conducted by the Organization for Economic Cooperation and Development (OECD) found that if people believed their feedback would be used to improve a program, they trusted government 60 percent of the time, whereas if they did not feel it would be used, they trusted government only 20 percent of the time.

Aside from building greater trust, effective PPCE can also improve the design, inclusivity, and accessibility of government policies and programs. This is particularly true when the Federal Government's management of its customer experience and service delivery is responsive to customer needs, interests, and priorities, as identified through human-centered design methodologies; empirical customer research; an understanding of behavioral science and user testing, especially for digital services; and other mechanisms of participation and engagement. For example, research by the U.S. Department of Health and Human Services (HHS) found that when HHS staff consulted with program participants and considered their lived experiences,¹ the outcomes and impacts of Federal programs, policies, and practices improved and resulted in benefits for both participants and Federal staff, including an increased understanding of the needs of HHS's customers and other stakeholders.

¹ HHS defines people with lived experience as individuals directly impacted by a social issue or combination of issues who share similar experiences or backgrounds and can bring the insights of their experience to inform and enhance systems, research, policies, practices, and programs that aim to address the issue or issues.

A Federal framework for PPCE will help agencies to:

• Broaden the kinds of people and groups reached;

• Expand the government's knowledge and consideration of the range of lived experiences and perspectives;

• Increase and improve participation and engagement across different agency functions;

• Identify when to effectively involve the public in decision-making processes and provide timely, ongoing opportunities for input;

• Better understand how PPCE aligns with and across multiple Federal laws, Executive priorities, mandates, and requirements;

• Embed PPCE within different agency functions; and

• Build on successes and model new participation and engagement efforts to strengthen a government that is inclusive, transparent, accountable, and responsive to the American people.

II. Definitions

E.O. 14058, E.O. 14091, and various OMB Memoranda use the following government-wide definitions, which OMB adopts for purposes of this RFI:

The term “customer” means any individual, business, or organization (such as a grantee or State, local, or Tribal entity) that interacts with an agency or program, either directly or through a federally-funded program administered by a contractor, nonprofit, or other Federal entity.

The term “customer experience” means the public's perceptions of and overall satisfaction with interactions with an agency, product, or service.

The term “public participation” in government means any process that involves members of the public in government decision-making. It seeks and facilitates the involvement of those affected by, or interested in, a government decision, including individuals; State, local, Tribal, and territorial governments; non-profit organizations; educational institutions; businesses; and other entities.

The term “community engagement” is a more specific concept within public participation that involves agency actions to build trust-based, long-term, and two-way relationships with all communities, including underserved communities that have been historically left out of government decision-making.

The term “human-centered design” means an interdisciplinary methodology of putting people, including those who will use or be impacted by what one creates, at the center of any process to solve challenging problems.

The term “service delivery” means actions by the Federal Government related to providing a benefit or service to a customer of a Federal Government entity. Such actions pertain to all points of the Government-to-customer delivery process, including when a customer applies for a benefit or loan, receives a service such as health care or small business counseling, requests a document such as a passport or Social Security card, files taxes or declares goods, uses resources such as a park or historical site, or seeks information such as notices about public health or consumer protection.

The term “underserved communities” refers to those populations as well as geographic communities that have been systematically denied the opportunity to participate fully in aspects of economic, social, and civil life, and may include Black, Latino, Indigenous and Native American, Asian American, Native Hawaiian, and Pacific Islander persons and other persons of color; members of religious minorities; women and girls; LGBTQI+ persons; persons with disabilities; persons who live in rural areas; persons who live in United States Territories; persons otherwise adversely affected by persistent poverty or inequality; and individuals who belong to multiple such communities. (While not mentioned explicitly in this definition, underserved communities also include individuals with limited English proficiency, whether they use spoken language, sign language, or other methods to communicate.)

The term “user” means any individual that interacts with a website or a digital service, often to complete a task or transaction.

III. Topics and Key Questions

OMB seeks feedback on the following three topic areas: (1) experiences individuals and organizations, including from underserved communities, have had in participating (or trying to participate) in Federal Government PPCE activities (e.g., notice and comment processes, Requests for Information, consultations, listening sessions, customer feedback surveys, user research, crowdsourcing) that inform government decision-making; (2) content to incorporate in a Federal framework for PPCE, including common guidelines and leading practices that can help Federal employees better use these methods; and (3) how OMB might continue to pursue a collaborative process to co-develop such a framework with the public. OMB encourages respondents to answer each question listed below and to include any other related input that respondents believe OMB should consider. However, respondents do not have to answer every question and may provide additional feedback for OMB to consider in developing and implementing this Federal framework for participation and engagement. Whenever possible, OMB requests that respondents share examples, data, and/or research or academic literature. Respondents may also include links to publicly accessible online materials and presentations.

1. Experience participating in Federal Government PPCE activities:

• What is the Federal Government doing well when you (or your organization) participate in or try to participate in government PPCE activities? Please include any specific examples.

• What challenges, including any physical or digital accessibility barriers, have you encountered when you (or your organization) participate in or try to participate in Federal Government PPCE activities? How could those challenges have been avoided or mitigated? Please include any specific examples.

• What might the Federal Government do to make it easier or more likely for you (or your organization) to participate and engage with the Federal Government to inform government decision-making (e.g., to share concerns, recommendations, experience, knowledge, or expertise on government policies, regulations, programs, plans, priorities, and services)?

• What is your understanding of how individuals and organizations can engage with the Federal Government to inform government decision-making, and of various opportunities (both past and present) to do this? What can the Federal Government do to reach and include a broader and more diverse range of people and groups, especially those who might typically be missed?

2. Content in a Federal framework for PPCE:

• What types of content (e.g., methods, tools, definitions, research on the value of participation and engagement, promising practices) could OMB include in a Federal framework for PPCE that would be effective and informative for Federal agencies to initiate or improve their participation and engagement activities, including those carried out with underserved communities? Please share any specific examples.

• How might OMB facilitate agencies adopting and effectively applying such practices, given the wide range of possible PPCE activities and focus areas?

• What are effective ways for the Federal Government to provide updates to the public about the feedback it receives during, and decisions made after, PPCE activities? Please include any specific promising practices.

• What goals and objectives should OMB consider when developing a Federal framework for PPCE?

• What guidance might OMB provide to agencies for developing their own goals and objectives for participation and engagement? What metrics could OMB suggest to help agencies assess the success and/or impact of their PPCE activities (e.g., participant diversity, breadth and saturation of reach, new or unique perspectives gained, engagement quality, engagement satisfaction, usability of feedback on government decision-making)?

3. Collaborative process to co-develop a Federal framework for PPCE:

• In co-developing a Federal framework for PPCE, what specific steps should OMB take that involve the Federal Government and the public, especially engaging members of underserved communities, to ensure collaborative development of the framework? Please share any promising practices and successful examples.

Loren Schulman,
Associate Director, Office of Performance and Personnel Management, Office of Management and Budget.
Samuel Berger,
Associate Administrator, Office of Information and Regulatory Affairs, Office of Management and Budget.

[FR Doc. 2024-05882 Filed 3-19-24; 8:45 am]

BILLING CODE 3110-01-P